DEPARTMENT OF ENERGY

Federal Energy Regulatory Commission

[Docket Nos. RP00-333-005 and RP01-51-004]

Crossroads Pipeline Company; Notice of Compliance Filing

August 13, 2003.

Take notice that on August 7, 2003, Crossroads Pipeline Company (Crossroads) tendered for filing to become part of its FERC Gas Tariff, First Revised Volume No. 1, the following tariff sheets:

Proposed Effective May 23, 2003.

Second Revised Sheet No. 2.

Second Revised Sheet No. 9.

First Revised Sheet No. 618.

First Revised Sheet No. 619.

Proposed Effective April 1, 2004.

Third Revised Sheet No. 2.

Third Revised Sheet No. 9.

Second Revised Sheet No. 618.

Second Revised Sheet No. 619.

Crossroads states it is making this filing in compliance with the Commission's July 23, 2003 Order (July 23 Order) in the above-referenced dockets. In the July 23 Order, the Commission held that Crossroads' August 2, 2002 filing to comply with the Commission's July 3, 2002 order on Crossroads' compliance with Order Nos. 637, 587-G, and 587-L generally complied with the requirements of those Orders. Crossroad's states, however, that the Commission required it to make certain compliance changes by filing actual tariff sheets within 15 days of the date of issuance of the July 23 Order. Crossroads states that the Commission directed that those tariff sheets should have a May 23, 2003 effective date. In addition, Crossroads states that the Commission identified other compliance changes that were to have an effective date of April 1, 2004. These revised tariff sheets reflect the changes required by the Commission in the July 23 Order.

Crossroads states that copies of its filing have been mailed to all firm customers, interruptible customers and affected state commissions.

Any person desiring to protest said filing should file a protest with the Federal Energy Regulatory Commission, 888 First Street, NE., Washington, DC 20426, in accordance with § 385.211 of the Commission's Rules and Regulations. All such protests must be filed in accordance with § 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: August 19, 2003.

Linda Mitry,
Acting Secretary.

[FR Doc. 03-21260 Filed 8-19-03; 8:45 am]

BILLING CODE 6717-01-P